DEPARTMENT OF DEFENSE

Department of the Army, DOD.

Privacy Act of 1974; System of Records

AGENCY: Department of the Army, DoD

ACTION: Notice to add a system of records.

SUMMARY: The Department of the Army is adding a system of records notice in its existing inventory of record systems subject to the Privacy Act of 1974, (5 U.S.C. 552a), as amended.

DATES: This proposed action is effective without further notice on November 8, 2001 unless comments are received which result in a contrary determination.

ADDRESSES: Records Management Division, U.S. Army Records Management and Declassification Agency, Attn: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 25, 2001, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 2, 2001.
L.M. Bynum,
Alternate OSD Federal Register Liaison Officer, Department of Defense.

A0715rrr USAEUR

SYSTEM NAME:

DOD Technical Experts/Troop Care/Analytical Support Contractor Employees.

SYSTEM LOCATION:

Headquarters, U.S. Army Europe and Seventh Army, Unit 29150, Attn: Department of Defense Contractor Personnel Office, APO AE 09100-9150.

CATEGORIES OF INDIVIDUALS COVERED BY THE SYSTEM:

Individuals who have applied for Troop Care Status Accreditation or Technical Expert Status Accreditation pursuant to an Exchange of Notes, Numbers 146 and 147, dated March 27, 1998, and Exchanges of Notes, Numbers 866 and 883, dated June 29, 2001, in accordance with Articles 72 and 73 of the German Supplementary Agreement to the NATO Status of Forces Agreement.

CATEGORIES OF RECORDS IN THE SYSTEM:

Individuals' name; Social Security Number; passport number; citizenship; local address; applications for status accreditation with substantiating documents, evaluations, correspondence and responses thereto; applications for status accreditation; questions pertaining to entitlement to status accreditation, allowances, privileges or other benefits granted as a result of accreditation; revocation of accreditation.

AUTHORITY FOR MAINTENANCE OF THE SYSTEM:

10 U.S.C. 3013, Secretary of the Army; NATO SOFA Supplementary Agreement, Article 72 and 73 between the United States of America and the Federal Republic of Germany; and E.O. 9397 (SSN).

PURPOSE(s):

To ensure compliance with the established bilateral implementation of Articles 72 and 73 of the Supplementary Agreement to the NATO Status of Forces Agreement. These two Articles govern the use in Germany of DoD contractor employees as Technical Experts, Troop Care, and Analytical Support providers.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Information from this system may be disclosed to officials of the Federal Republic of Germany (the host nation) and its various States (Laender) responsible for the enforcement of tax, labor and other host nation law.

Information from this system may be disclosed to officials of the Federal Republic of Germany and its various States (Laender) responsible for the implementation of the Exchange of Notes.

The DoD “Blanket Routine Uses” published at the beginning of the Army's compilation of systems of records notices also apply to this system.

Policies and practices for storing, retrieving, accessing, retaining, and disposing of records in the system

STORAGE:

Paper records in file folders and on electronic storage media.

RETRIEVABILITY:

By individual's surname or Social Security Number.

SAFEGUARDS:

Records are maintained in locked file cabinets and/or in locked offices in buildings employing security guards or on military installations protected by military police patrols.

RETENTION AND DISPOSAL:

Deposition pending (until NARA has approved a disposition and retention schedule, treat records as permanent).

SYSTEMS MANAGER AND ADDRESS:

Headquarters, U.S. Army Europe and Seventh Army, ATTN: Unit 29150, Director, Department of Defense Contractor Personnel Office, APO AE 09100-9150.

NOTIFICATION PROCEDURE:

Individuals seeking to determine if information about themselves is contained in the record system should address written inquiries to the Director, Department of Defense Contractor Personnel Office, Headquarters, U.S. Army Europe and Seventh Army, Unit 29150, APO AE 09100-9150.

Individual should provide his/her full name, the address and telephone number, and any other personal data that would assist in identifying records pertaining to him/her.

RECORD ACCESS PROCEDURES:

Individuals seeking access to records about themselves contained in this record system should address written inquiries to the Director, Department of Defense Contractor Personnel Office, Headquarters, U.S. Army Europe and Seventh Army, Unit 29150, APO AE 09100-9150.

Individual should provide his/her full name, the address and telephone number, and any other personal data that would assist in identifying records pertaining to him/her.

CONTESTING RECORD PROCEDURES:

The Army's rules for accessing records, and for contesting contents and appealing initial agency determinations are contained in Army Regulation 340-21; 32 CFR part 505; or may be obtained from the system manager.

RECORD SOURCE CATEGORIES:

From the individual, Army records, and other public and private records.

EXEMPTIONS CLAIMED FOR THE SYSTEM:

None.

[FR Doc. 01-25117 Filed 10-5-01; 8:45 am]

BILLING CODE 5001-08-P